DEPARTMENT OF AGRICULTURE

Office of the Secretary

Meeting Notice of the National Agricultural Research, Extension, Education, and Economics Advisory Board

AGENCY: Research, Education, and Economics, USDA.

ACTION: Notice of meeting.

SUMMARY: In accordance with the Federal Advisory Committee Act, 5 U.S.C. App 2, Section 1408 of the National Agricultural Research, Extension, and Teaching Policy Act of 1977 (7 U.S.C. 3123), and the Agricultural Act of 2014, the United States Department of Agriculture (USDA) announces an open virtual meeting of the National Agricultural Research, Extension, Education, and Economics Advisory Board.

DATES: The National Agricultural Research, Extension, Education, and Economics Advisory Board will meet via teleconference on August 11, 2015, at 2 p.m. Eastern Daylight Time.

ADDRESSES: The meeting will take place virtually at the AT&T Meeting Room below. Please follow the pre-registration instructions to ensure your participation in the meeting. Call-In instructions for Tuesday, August 11, 2015, at 2:00 p.m. Eastern Daylight Time: Web Preregistration: Participants may preregister for this teleconference at http://emsp.intellor.com?p=420632&do=register&t=8. Once the participant registers, a confirmation page will display dial-in numbers and a unique PIN, and the participant will also receive an email confirmation of this information.

FOR FURTHER INFORMATION CONTACT: Michele Esch, Designated Federal Officer and Executive Director, National Agricultural Research, Extension, Education, and Economics Advisory Board, U.S. Department of Agriculture, 1400 Independence Avenue SW., STOP 0321, Washington, DC 20250-0321; telephone: (202) 720-3684; fax: (202) 720-6199; or email: nareee@ars.usda.gov. For additional information on the National Agricultural Research, Extension, Education, and Economics Advisory Board, visit http://nareeeab.ree.usda.gov/.

SUPPLEMENTARY INFORMATION: On Tuesday, August 11, 2015, at 2 p.m. Eastern Daylight Time, a virtual meeting of the National Agricultural Research, Extension, Education, and Economics Advisory Board will be conducted to hear the summary of findings and recommendations from the Animal Handling and Welfare Review Panel's Phase II report on the research animal care and well-being policies, procedures, and standards at the Agricultural Research Service. The National Agricultural Research, Extension, Education, and Economics Advisory Board will provide additional advice and recommendations to USDA on the report and hear stakeholder input received at this meeting, as well as, other written comments. The report, entitled Findings and Recommendations on the Phase II Review of the Animal Care and Well-Being at the Agricultural Research Service to the Research, Education, and Economics Under Secretary, is available at www.ree.usda.gov.

This meeting is open to the public and any interested individuals wishing to attend. Opportunity for verbal public comment will be offered on the day of the meeting. Written comments by attendees or other interested stakeholders will be welcomed for the public record before and up to the day of the meeting (by close of business Tuesday, August 11, 2015). All written statements must be sent to Michele Esch, Designated Federal Officer and Executive Director, National Agricultural Research, Extension, Education, and Economics Advisory Board, U.S. Department of Agriculture, 1400 Independence Avenue SW., STOP 0321, Washington, DC 20250-0321; or email: nareee@ars.usda.gov. All statements will become a part of the official record of the National Agricultural Research, Extension, Education, and Economics Advisory Board and will be kept on file for public review in the Research, Education, and Economics Advisory Board Office.

Done at Washington, DC, this 10 day of July, 2015.
Ann Bartuska,
Deputy Under Secretary, Research, Education, and Economics.

[FR Doc. 2015-17708 Filed 7-17-15; 8:45 am]

BILLING CODE 3410-03-P